DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on February 1, 2015, through February 28, 2015. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “Sustained, or had significantly aggravated, any illness, disability, injury, or condition not set forth in the Vaccine Injury Table but which was caused by” one of the vaccines referred to in the Table, or

b. “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: March 13, 2015.
Mary K. Wakefield,
Administrator.

List of Petitions Filed

1. Melissa Kirdzik on behalf of John Henry Watts, IV, Newport, Rhode Island, Court of Federal Claims No: 15-0098V

2. Maria Echevarria on behalf of D.E., Deceased, Piermont, New York, Court of Federal Claims No: 15-0100V

3. Susan Marshall on behalf of Antron Jarvar Thompson, Decatur, Georgia, Court of Federal Claims No: 15-0102V

4. James Riley and Brandy Riley on behalf of E.R., Huntington, West Virginia, Court of Federal Claims No: 15-0104V

5. Shannon Apodaca, Alamosa, Colorado, Court of Federal Claims No: 15-0106V

6. Aaron Prior, Lincoln, Nebraska, Court of Federal Claims No: 15-0107V

7. David Thomas, Brookfield, Wisconsin, Court of Federal Claims No: 15-0108V

8. James Kois, Latham, New York, Court of Federal Claims No: 15-0109V

9. Michael Perkins, Elgin, Illinois, Court of Federal Claims No: 15-0112V

10. Shanelle Mattus-Lang on behalf of D.J.W., Santa Clara, California, Court of Federal Claims No: 15-0113V

11. Michael D. Hudson, Huntsville, Texas, Court of Federal Claims No: 15-0114V

12. Adele Phillips, Syracuse, New York, Court of Federal Claims No: 15-0115V

13. Amanda Seiders and Adam Seiders on behalf of H.S., Cypress, Texas, Court of Federal Claims No: 15-0117V

14. Carrie M. Broschart on behalf of Amelia F. Beaver, Danville, Pennsylvania, Court of Federal Claims No: 15-0118V

15. Terra Schaller, Portland, Oregon, Court of Federal Claims No: 15-0120V

16. Christine Torres on behalf of L.T., Rochester, New York, Court of Federal Claims No: 15-0124V

17. Kristie Roby, Sumter, Florida, Court of Federal Claims No: 15-0125V

18. Joanne Jennings, Covington, Louisiana, Court of Federal Claims No: 15-0131V

19. Madeline Moorman, Overland Park, Kansas, Court of Federal Claims No: 15-0132V

20. Amy Lyn Vakalis, Baraboo, Wisconsin, Court of Federal Claims No: 15-0134V

21. Judith Jetson, Weaverville, North Carolina, Court of Federal Claims No: 15-0138V

22. Julie Reiling on behalf of G.R., Phoenix, Arizona, Court of Federal Claims No: 15-0139V

23. Virginia Ives, Portland, Oregon, Court of Federal Claims No: 15-0140V

24 Bridgette Wiley, Conyers, Georgia, Court of Federal Claims No: 15-0141V

25. Paulette Cummins, Beverly Hills, California, Court of Federal Claims No: 15-0142V

26. Katelyn Garner, Baraboo, Wisconsin, Court of Federal Claims No: 15-0143V

27. Timothy F. Grieb, Seattle, Washington, Court of Federal Claims No: 15-0144V

28. Kimberly Norwood and Clifford Norwood on behalf of Cassidi Norwood, Atlanta, Georgia, Court of Federal Claims No: 15-0145V

29. Dorothy Gray, Phoenix, Arizona, Court of Federal Claims No: 15-0146V

30. Francine Mack, Cheyenne, Wyoming, Court of Federal Claims No: 15-0149V

31. Ronald Watkins, Philadelphia, Pennsylvania, Court of Federal Claims No: 15-0150V

32. Danielle Groom, Fairview Heights, Illinois, Court of Federal Claims No: 15-0157V

33. Hailey Davis and Chad Davis on behalf of R.D., Cordele, Georgia, Court of Federal Claims No: 15-0159V

34. Adan Gomez and Raquel Ayon on behalf of Joel Gomez, Deceased, Rosemead, California, Court of Federal Claims No: 15-0160V

35. Demarco Johnson and Lateasha Johnson on behalf of D.J., Hendersonville, Tennessee, Court of Federal Claims No: 15-0164V

36. Jessica Crefasi, Mandeville, Louisiana, Court of Federal Claims No: 15-0166V

37. Ova Franklin Kelly, Orlando, Florida, Court of Federal Claims No: 15-0167V

38. Mamotabo Matshela, Chicago, Illinois, Court of Federal Claims No: 15-0168V

39. Jennifer L. Check, Memphis, Tennessee, Court of Federal Claims No: 15-0169V

40. Thaddee Michaud, Rochester, New York, Court of Federal Claims No: 15-0170V

41. Tyler Steen, Cedar Falls, Iowa, Court of Federal Claims No: 15-0176V

42. Britany Greek on behalf of C.T.G., Lake City, Florida, Court of Federal Claims No: 15-0178V

43. Francisco Tamez and Luz Tamez on behalf of E.T., Las Cruces, New Mexico, Court of Federal Claims No: 15-0181V

44. Victor Fullerton, Cadillac, Michigan, Court of Federal Claims No: 15-0182V

45. Lynette Brayboy on behalf of L.B., Baraboo, Wisconsin, Court of Federal Claims No: 15-0183V

46. Mary E. Forde, Columbus, Ohio, Court of Federal Claims No: 15-0185V

47. Jered R. Anderson, Faribault, Minnesota, Court of Federal Claims No: 15-0187V

[FR Doc. 2015-06279 Filed 3-18-15; 8:45 am]

BILLING CODE 4165-15-P